DEPARTMENT OF THE INTERIOR

National Park Service

[NPS-AKR-GLBA-NPS0034721; PX.XGLBARP18.00.1 (223); OMB Control Number 1024-0281]

Agency Information Collection Activities; Submission to the Office of Management and Budget for Review and Approval; Glacier Bay National Park and Preserve Bear Sighting and Encounter Reports

AGENCY: National Park Service, Interior.

ACTION: Notice of information collection; request for comment.

SUMMARY: In accordance with the Paperwork Reduction Act of 1995 we, the National Park Service (NPS) are proposing to renew an information collection.

DATES: Interested persons are invited to submit comments on or before March 13, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please reference OMB Control Number 1024-0281 in the subject line of your comments.

FOR FURTHER INFORMATION CONTACT: To request additional information about this ICR, contact Tania Lewis, Wildlife Biologist, Glacier Bay National Park and Preserve P.O. Box 140 Gustavus, AK 99826 (mail); or tania_lewis@nps.gov (email); or 907-697-2668 (telephone). Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 16, 2022 (87 FR 8876). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Park Service Organic Act, 54 U.S.C. 100101(a) et seq., requires that the NPS preserve national parks for the enjoyment, education, and inspiration of this and future generations. In order to monitor resources and wildlife in the Glacier Bay National Park and Preserve (GLBA) and to enhance the safety of future visitors, the park monitors all sightings and interactions by visitors with bears. NPS regulations codified in 36 CFR 1-7, 12 and 13, are designated to implement statutory mandates that provide for resource protection and public enjoyment.

The NPS uses Forms 10-405, “Tatshenshini—Alsek River Bear Report” and 10-406, “Bear Information Management Report to record observations and interactions by visitors to determine bear movements, habitat use, and species distribution. Obtaining immediate information on bear-human conflicts allows managers to respond promptly to mitigate further conflicts. Proactive mitigation includes notifying other backcountry users, issuing advisories or recommendations, or issuing closures to prevent further conflicts and maintain public safety.

Title of Collection: Glacier Bay National Park and Preserve Bear Sighting and Encounter Reports.

OMB Control Number: 1024-0281.

Form Number: 10-405, “Tatshenshini—Alsek River Bear Report” and 10-406, “Bear Information Management Report”.

Type of Review: Extension of a currently approved collection.

Respondents/Affected Public: Backcountry and frontcountry visitors to Glacier Bay National Park and Preserve.

Estimated Number of Annual Responses: 50.

Estimated Number of Annual Respondents: 50.

Estimated Time per Response: 5 minutes.

Estimated Total Annual Burden Hours: 4.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-02767 Filed 2-8-23; 8:45 am]

BILLING CODE 4312-52-P